DEPARTMENT OF THE INTERIOR

Fish and Wildlife Service

[FWS-R3-R-2012-N259; FXRS1265030000-134-FF03R06000]

Big Stone National Wildlife Refuge, Big Stone and Lac Qui Parle Counties, MN; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for Big Stone National Wildlife Refuge (Refuge, NWR). In this final CCP, we describe how we intend to manage the refuge for the next 15 years.

ADDRESSES: You will find the final CCP, a summary of the final CCP, and the EA/FONSI on the planning Web site at http://www.fws.gov/midwest/planning/BigStoneNWR/index.html. A limited number of hard copies and CD-ROMs are available. You may request one by any of the following methods:

• Email: r3planning@fws.gov. Include “Big Stone Final CCP” in the subject line of the message.

• U.S. Mail: Big Stone NWR, 44843 County Road 19, Odessa, MN 56276.

FOR FURTHER INFORMATION CONTACT: Alice Hanley, 320-273-2191.

SUPPLEMENTARY INFORMATION:

Introduction

With this notice, we continue the CCP process for Big Stone National Wildlife Refuge, which we began by publishing a notice of intent in the Federal Register (73 FR 76677) on December 17, 2008. For more about the initial process and the history of this refuge, see that notice. We released the draft CCP and EA to the public, announcing and requesting comments in a notice of availability (77 FR 27245) on May 9, 2012. The 30-day comment period ended on June 8, 2012. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP may be found at http://www.fws.gov/midwest/planning/BigStoneNWR/index.html. The final CCP includes detailed information about the planning process, refuge, issues, and management alternative selected. The Web site also includes an EA and FONSI, prepared in accordance with the National Environmental Policy Act (NEPA) (43 U.S.C. 4321 et seq.). The EA/FONSI includes discussion of six alternative refuge management options. The Service's selected alternative is reflected in the final CCP.

The selected alternative includes 5 miles of river channel restoration, a focus on water quality improvement, water management improvements to help increase the amount of submerged vegetation in refuge wetlands, increased restoration and management of grasslands, and opportunities for wildlife dependent recreation. A detailed description of objectives and actions included in this selected alternative is found in chapter 4 of the final CCP.

Christopher P. Jensen,
Acting Regional Director, Midwest Region, U.S. Fish and Wildlife Service.

[FR Doc. 2013-00898 Filed 1-16-13; 8:45 am]

BILLING CODE P